DEPARTMENT OF LABOR

Mine Safety and Health Administration

Petitions for Modification of Application of Existing Mandatory Safety Standards

AGENCY: Mine Safety and Health Administration, Labor.

ACTION: Notice.

SUMMARY: This notice is a summary of four petitions for modification submitted to the Mine Safety and Health Administration (MSHA) by the parties listed below.

DATES: All comments on the petitions must be received by MSHA's Office of Standards, Regulations, and Variances on or before December 4, 2020.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Roslyn B. Fontaine, Deputy Director, Office of Standards, Regulations, and Variances. Persons delivering documents are required to check in at the receptionist's desk in Suite 4E401. Individuals may inspect copies of the petition and comments during normal business hours at the address listed above.

MSHA will consider only comments postmarked by the U.S. Postal Service or proof of delivery from another delivery service such as UPS or Federal Express on or before the deadline for comments.

FOR FURTHER INFORMATION CONTACT: Aromie Noe, Office of Standards, Regulations, and Variances at 202-693-9557 (voice), Noe.Song-Ae.A@dol.gov (email), or 202-693-9441 (facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, the regulations at 30 CFR 44.10 and 44.11 establish the requirements for filing petitions for modification.

II. Petitions for Modification

Docket Number: M-2020-017-C.

Petitioner: LCT Energy, LP, 938 Mt. Airy Drive, Suite 200, Johnstown, PA 15904.

Mine: Rustic Ridge No. 1 Mine, MSHA I.D. No. 36-10089, located in Westmoreland County, Pennsylvania.

Regulation Affected: 30 CFR 75.503 (Permissible electric face equipment; maintenance) and 18.35(a)(5)(i) (Portable (trailing) cables and cords).

Modification Request: The petitioner's alternative approach to 30 CFR 75.503 will allow for No. 2 AWG, 900-foot extended trailing cables on roof bolters. The petitioner requests a modification of the existing standard to permit an alternative method that will provide no less a degree of safety than that provided by the standard.

The petitioner states that:

(a) The petitioner is submitting a petition to use No. 2 AWG, 900-foot extended trailing cables for roof bolters to allow for access to the end of 600-foot room panels without having to move power.

(b) 30 CFR 75.333 allows temporary ventilation controls in mining rooms that are 600 feet in length. The petitioner is applying to use extended trailing cables to mine to the end of the 600-foot room, set for 2-3 shifts, without needing to move power. Coal seams at this mine average 42 inches to 48 inches, not having to move the power source limits the handling of cables. This will be safer and reduce physical injuries to miners such as muscle strain, shoulder, and back injuries. Additionally, this will limit the exposure of miners to electrical hazards.

(c) The petition applies to trailing cables, supplying 480 AC volt, three phase, alternating the roof bolting machine; the extended length trailing cable will be No. 2 AWG, three conductor round cable and are not to exceed 900 feet in length, with a 90 degree C insulation of either Type G-GC, Type G, Type G+GC.

(d) The components for short circuit protection will have interruption ratings that are in accordance with the maximum calculated fault currents available. Circuit breakers (including both in service and replacement) protecting No. 2 AWG extended trailing cables will have instantaneous trip units calibrated to trip at 649 amps. The breaker provider, Global Mine Service, has verified breaker settings, which are sealed and the settings cannot be altered. Permanent legible labels will be attached to the circuit breaker, identifying it as able to protect the trailing cables and maintained in such condition. The labels will let miners know that they should not change or alter sealed short circuit settings.

(e) The lowered trip setting for circuit breakers, 649 amps for 900 feet of #2 AWG cables, requested in this petitioner will be safer than the cable allowed in Table 8 and 9 of Part 18, which is for 800 amps for 700 feet of #2 AWG cable.

(f) Daily inspections, labeling of circuit breakers, training before and after implementation, will allow for safety equal to 30 CFR 75.503, as required.

The petitioner proposes the following:

(a) The trailing cables will be visually examined each production day by a person designated by the petitioner, to ensure that they are in safe operating condition. If they are not in safe operating condition, they will not be used until properly repaired or removed. The instantaneous settings for the specially calibrated breakers will be checked to make sure that seals are not removed, tampered with, or do not exceed stipulated settings.

(b) Miner safety will be increased because of examinations of the breakers and trailing cables, ensuring that they are in safe condition. If any trailing cable is not in safe condition, it will not be used until repaired or removed from service. Instantaneous settings for specially calibrated breakers will be examined to ensure make sure that seals have not been removed, tampered with, or are beyond stipulated settings.

(c) Splices and repairs to the trailing cables for roof bolting machines will be conducted properly and according to instructions of the manufacturer of splicing and repair materials, which will comply with 30 CFR 75.603 and 75.604.

(d) Haulage roads and trailing cable storage areas will be situated, as an additional precaution, to lessen contact between the trailing cable with scoops, shuttle cars, and roof bolting machines (as in 30 CFR 75.606). Trailing cable anchors on cable reel equipment will be permanent, minimizing tensile forces on the trailing cables.

(e) Only enough cable will be on the cable reel to operate the current production shift in order to limit heat, and excess cable will be kept behind the anchor(s) on equipment that uses cable reels, preventing cable overheating.

(f) The petitioner's alternative method will not be conducted until all miners designated to examine the seals, verify short-circuit settings, and examine trailing cables for defects have received training.

(g) Listed equipment in this petition (No. 2 AWG, 900-foot extended trailing cables, short circuit interrupting devices, and circuit breakers) will comply with the Federal Mine Safety and Health Act of 1977 and 30 CFR part 75.

(h) The petitioner plans to submit to the District Manager revisions to 30 CFR part 48 training plan approved for this mine. Revisions will note specific training tasks for miners examining trailing cables and safe operating conditions. Training will include:

(1) hazards associated with setting the circuit interrupting devices too high to protect trailing cables;

(2) verifying that circuit interrupting devices are properly set and maintained, to protect trailing cables;

(3) mining and operating procedures to ensure that trailing cables are not damaged;

(4) protecting trailing cables against damage by overheating, excessive cable storing on cable reels, and adjusting cable stored behind cable anchors when tramming distances change; and

(5) procedures to visually examine trailing cables so that they are in safe operating condition (examinations include inspecting the cable, observing insulation, integrity of splices, nicks, and abrasions).

(i) Equipment in this petition will comply with the Federal Mine and Health Act of 1877 and 30 CFR 75, where applicable.

The petitioner asserts that the proposed alternative method will at all times guarantee no less than the same measure of protection afforded by the standard.

Docket Number: M-2020-029-C.

Petitioner: Canyon Fuel Company, LLC, 597 South SR 24, Salina, UT 84654.

Mine: Sufco Mine, MSHA I.D. No. 42-00089, located in Sevier County, Utah.

Regulation Affected: 30 CFR 75.500 (Permissible electric equipment).

Modification Request: The petitioner is applying to use various non-MSHA approved Powered Air Purifying Respirators (PAPRs) equipment in lieu of the current standard, in or inby the last open crosscut.

The petitioner states that:

(a) The modification to the current standard is requested to allow for an alternative method of respiratory protection for longwall miners.

(b) The current 3M Airstream PAPR, the Mining Headgear-Mounted model, is approved by MSHA but is being discontinued by the manufacturer, 3M. The 3M Airstream model allows for constantly filtered air to flow, reducing exposure to respirable dust. There are no other MSHA-approved PAPRs.

(c) The petitioner is applying to allow for non-MSHA approved PAPRs to protect miners from exposure to respirable dust during regular mining operations in or inby the last open crosscut.

(d) This petition will allow longwall miners to use PAPRs in MMU 001-0 and MMU 007-0, giving miners the opportunity to reduce dust exposure, decreasing health risks.

As an alternative to the existing standard, the petitioner proposes the following:

(c) The petitioner proposes using the following intrinsically safe models:

(1) CleanSpace EX—full or half mask;

(2) CleaSpace2—Full or half mask, this is NIOSH approved and intrinsically safe;

(3) 3M Versaflo TR-800—certified under ANSI/UL 60079-11 standard for hazardous locations, it is intrinsically safe; and

(4) Non-battery powered 3M Ultimate FX full facepiece respirator mask.

(b) CleanSpace respirators use an air filtering, fan assisted pressure mask, which can be used in high dust environments. They are light and compact, require no servicing, are intrinsically safe, and have few parts. The 3M Versaflo TR-800 allows for increased movement in tight spaces, while protecting against airborne contaminates. It is easy to use, has interchangeable components for specific application, is intrinsically safe, has audible and visual alarms, multi-speed blower, long battery run times, charges quickly and is ANSI/UL 60079-11 certified, allowing it to be used in hazardous locations. The 3M Ultimate FX respirator utilizes a scotchguard protection lens, allowing liquids to bead up and be removed easily, a large lens provides visibility, it is comfortable and easy to use, the 3M cool flow valve allows for easier breathing, and particle filters help filter out various particulates.

(c) When not in operation, batteries for the PAPR models will be charged outby the last open crosscut.

(d) The following battery charger products will be used: 3M battery charger TR-641N or 3M 4-station battery charger TR-644-N.

(e) The 3M Versaflo TR-800 PAPR will exclusively use the 3M TR-830 battery pack.

(f) Miners will be trained on how to safely use and take care of PAPR units, per manufacturer instructions.

(g) The above instruments will be assessed for physical damage as well as the integrity of the case.

(h) If methane levels go above 1.0 percent, 30 CFR 57.22234 procedures will be followed.

The petitioner asserts that the proposed alternative method will at all times guarantee no less than the same measure of protection afforded by the standard.

Docket Number: M-2020-030-C.

Petitioner: Canyon Fuel Company, LLC, 597 South SR 24, Salina, UT 84654.

Mine: Sufco Mine, MSHA I.D. No. 42-00089, located in Sevier County, Utah.

Regulation Affected: 30 CFR 75.507-1 (Electric equipment other than power-connection points; outby the last open crosscut; return air; permissibility requirements).

Modification Request: The petitioner is applying to use various non-MSHA approved Powered Air Purifying Respirators (PAPRs) equipment in lieu of the current standard, in return air and outby the last open crosscut.

The petitioner states that:

(a) The modification to the current standard is requested to allow for an alternative method of respiratory protection for longwall miners.

(b) The current 3M Airstream PAPR, the Mining Headgear-Mounted model, is approved by MSHA but is being discontinued by the manufacturer, 3M. The 3M Airstream model allows for constantly filtered air to flow, reducing exposure to respirable dust. There are no other MSHA-approved PAPRs.

(c) The petitioner is applying to allow for non-MSHA approved PAPRs to protect miners from exposure to respirable dust during regular mining operations in return air and outby the last open crosscut.

(d) This petition will allow longwall miners to use PAPRs in MMU 001-0 and MMU 007-0, giving miners the opportunity to reduce dust exposure, decreasing health risks.

As an alternative to the existing standard, the petitioner proposes the following:

(d) The petitioner proposes using the following intrinsically safe models:

(5) CleanSpace EX—full or half mask;

(6) CleaSpace2—Full or half mask, this is NIOSH approved and intrinsically safe;

(7) 3M Versaflo TR-800—certified under ANSI/UL 60079-11 standard for hazardous locations, it is intrinsically safe; and

(8) Non-battery powered 3M Ultimate FX full facepiece respirator mask.

(b) CleanSpace respirators use an air filtering, fan assisted pressure mask, which can be used in high dust environments. They are light and compact, require no services, are intrinsically safe, and have few parts. The 3M Versaflo TR-800 allows for increased movement in tight spaces, while protecting against airborne contaminates. It is easy to use, has interchangeable components for specific application, is intrinsically safe, has audible and visual alarms, multi-speed blower, long battery run times, charges quickly and is ANSI/UL 60079-11 certified, allowing it to be used in hazardous locations. The 3M Ultimate FX respirator utilizes a scotchguard protection lens, allowing liquids to bead up and be removed easily, a large lens provides visibility, it is comfortable and easy to use, the 3M cool flow valve allows for easier breathing, and particle filters help filter out various particulates.

(c) When not in operation, batteries for the PAPR models will be charged outby the last open crosscut.

(d) The following battery charger products will be used: 3M battery charger TR-641N or 3M 4-station battery charger TR-644-N.

(e) The 3M Versaflo TR-800 PAPR will exclusively use the 3M TR-830 battery pack.

(f) Miners will be trained on how to safely use and take care of PAPR units, per manufacturer instructions.

(g) The above instruments will be assessed for physical damage as well as the integrity of the case.

(h) If methane levels go above 1.0 percent, 30 CFR 57.22234 procedures will be followed.

The petitioner asserts that the proposed alternative method will at all times guarantee no less than the same measure of protection afforded by the standard.

Docket Number: M-2020-031-C.

Petitioner: Kimmel's Mining, Inc., 1744 E Grand Ave, Tower City, PA 17980.

Mine: Williamstown Mine No. 1, MSHA I.D. No. 36-09435, located in Dauphin County, PA.

Regulation Affected: 30 CFR 75.1506(c)(1) (Refuge alternatives).

Modification Request: The petitioner, which operates an anthracite mine, is requesting an alternative method to 30 CFR 75.1506(c)(1), based on the specific factors of the petitioner's mining operations. The alternative would provide no less than the same measure of protection afforded by the existing standard.

The petitioner states that:

(a) Due to the anthracite mining operations at Williamstown Mine No. 1, the petitioner is requesting an alternative to 30 CFR 75.1506(c)(1). The modification application is to allow miners to work and travel over 2,000 feet from the working face to the hoist mantrip.

As an alternative to the existing standard, the petitioner states the following:

(a) By foot, miners are less than 30 minutes from the working face and less than 10 minutes from the bottom of the slope.

(b) The mine does not have any seals.

(c) There is no history of detectable methane gas or oxygen deficient atmospheres at this mine.

(d) Anthracite coal mining is low in volatility, meaning rock dust is not applied in any anthracite underground mine.

(e) 30 pound fire extinguishers are kept at the working section, at all times.

(f) Wooden posts are used as the primary roof support, which are spaced on five foot centers. The coal seam mined has a thickness that is on average 36 to 42 inches. This makes it difficult to move a refuge structure. Moving such a prefabricated structure would cause damage to the structure, due to the type of roof support at this mine.

(g) The mine does not pump water and is located above the mine pool.

(h) There are over two escapeway portals to the surface at this mine.

(i) A drag run by a motor is the only mechanical equipment at the mine.

(j) The petitioner asserts that the proposed alternative method will at all times guarantee no less than the same measure of protection afforded by the standard.

Roslyn Fontaine,
Deputy Director, Office of Standards, Regulations, and Variances.

[FR Doc. 2020-24397 Filed 11-3-20; 8:45 am]

BILLING CODE 4520-43-P